DEPARTMENT OF THE INTERIOR

Bureau of Land Management

[CA-180-03-1430-ES: CACA 43721]

Realty Action, Recreation and Public Purposes (R&PP) Act Classification; Placer County, CA

AGENCY: Bureau of Land Management, Interior.

ACTION: Notice of realty action—Recreation and Public Purposes (R&PP) Act classification; Placer County, California.

SUMMARY: The following public lands in Placer County, California have been examined and found suitable for classification for lease or conveyance to the Iowa Hill Community Cemetery under the provisions of the Recreation and Public Purposes Act, as amended (43 U.S.C. 869 et seq.). The Iowa Hill Community Club proposes to use the following lands for a cemetery, park community center, and library.

Mount Diablo Meridian, California

T. 15 N., R. 10 E.,

Sec. 33, NW¼ of lot 65, E½NW¼NE¼NW¼, SW¼NW¼NE¼NE¼NW¼, W½SW¼NE¼NE¼NW¼.

Containing 7.50 acres, more or less.

The lands are not needed for Federal purposes. Lease or conveyance is consistent with the current BLM land use planning and would be in the public interest.

The lease/patent, when issued, will be subject to the following terms, conditions, and reservations:

1. Provisions of the Recreation and Public Purposes Act and to all applicable regulations of the Secretary of the Interior.

2. A right-of-way for ditches and canals constructed by the authority of the United States.

3. All minerals shall be reserved to the United States, together with the right to prospect for, mine, and remove materials.

4. An easement for streets, roads, and utilities in accordance with the transportation plan for Placer County.

Detailed information concerning this action is available for review at the office of the Bureau of Land Management, Folsom Field Office, 63 Natoma Street, Folsom, California.

Upon publication of this notice in the Federal Register, the lands will be segregated from all forms of appropriation under the public land laws, including the general mining laws, except for lease or conveyance under the Recreation and Public Purposes Act and leasing under the mineral leasing laws. For a period of 45 days from the date of publication of this notice in the Federal Register, interested persons may submit comments regarding the proposed lease/conveyance or classification of the lands to the Field Manager, Folsom Field Office, 63 Natoma Street, Folsom, CA 95630.

Classification Comments: Interested parties may submit comments involving the suitability of the lands. Comments on the classification are restricted to whether the land is physically suited for the proposal, whether the use will maximize the future use or uses of the land, whether the use is consistent with the local planning and zoning, or if the use is consistent with the State and Federal programs.

Application Comments: Interested parties may submit comments regarding the specific use proposed in the applications and plan of developments, whether the BLM followed proper administrative procedures in reaching the decision, or any other factor not directly related to the suitability of the land.

Any adverse comments will be reviewed by the State Director. In the absence of any adverse comments, the classification will become effective 60 days from the date of publication of this notice in the Federal Register.

FOR FURTHER INFORMATION CONTACT: Karen Montgomery, BLM Folsom Field Office, (916) 985-4474.

Dated: January 17, 2003.
Howard K. Stark,
Chief, Branch of Lands Management.

[FR Doc. 03-5836 Filed 3-11-03; 8:45 am]

BILLING CODE 4310-40-P